DEPARTMENT OF HEALTH AND HUMAN SERVICES

Centers for Disease Control and Prevention

[Program Announcement 02026]

Cooperative Agreement for a National Professional Organization for Persons with Developmental Disabilities; Notice of Availability of Funds

A. Purpose

The Centers for Disease Control and Prevention (CDC) announces the availability of fiscal year (FY) 2002 funds for a cooperative agreement program entitled “National Professional Organization for Persons with Developmental Disabilities.” This program addresses the “Healthy People 2010” focus areas of Maternal, Infant and Child Health, and Disability and Secondary Conditions.

The purpose of the program is to strengthen the nation's capacity to carry out public health activities in the areas of birth defects and developmental disabilities. The objectives are to: (1) Facilitate state-based surveillance and research of birth defects and developmental disabilities, to assure time-sensitive services are provided and effective clinical and environmental interventions are made available; (2) increase access to social participation of children and adults with disabilities through advocacy and public policy development; and (3) train public health professionals to strengthen the nation's expertise in the fields of birth defects, developmental disabilities, and children and adults with disabilities.

B. Eligible Applicants

Assistance will only be provided to applicants that are national professional organizations, with a large and broad-based membership representing professionals working with state public health agencies and academic communities in the areas of birth defects and developmental disabilities as well as consumers of these services.

To be eligible, applicants must demonstrate that the mission of the organization is explicitly committed to improving and developing state and national health policy in birth defects and developmental disabilities throughout the United States, by focusing their efforts on helping to strengthen and build capacity and infrastructure of state agencies responsible for surveillance, applied research, and training. This may be demonstrated by submission of your Charter, or at least two letters of support from the membership representing professionals working with state public health agencies and academic communities in the areas of birth defects and developmental disabilities which documents your active commitment to the above mission and public health policies, or both.

This information should be placed directly behind the face page of the application. Applications that fail to submit the evidence requested above will be considered non-responsive and returned without review.

Note: Title 2 of the United States Code, section 1611 states that an organization described in section 501(c)(4) of the Internal Revenue Code that engages in lobbying activities is not eligible to receive Federal funds constituting an award, grant, or loan.

C. Availability of Funds

Approximately $200,000 is available in FY 2002 to fund approximately one award. It is expected that the awards will begin on or about June 1, 2002, and will be made for a 12-month budget period within a project period of up to five years. Funding estimates may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Establish in the first year, the methods, guidance, and infrastructure for projects that may be conducted by the recipient, or by a sub-recipient; i.e. professional membership (Special Projects). The recipient will prepare and provide guidance documentation for soliciting applications, evaluation of applications and making funding decisions. Subsequent continuation applications will include any Special Projects which the organization determines should receive funding. All projects should be responsive to the public health mission of CDC by focusing on one or more of the activities “b.” through “h.” below; and all projects must meet the requirements of activity “i.” below.

b. Develop and implement projects in public health and disability services research regarding best practices for persons with birth defects, developmental disabilities, and special health care needs.

c. Collaborate with local and state agencies to develop and provide access to critical databases for health and disability services assessment; develop methods to analyze and interpret relevant data.

d. Collaborate with local and state agencies in a recruitment and training program to produce professionals to serve in public health at state and national levels.

e. Develop and participate in educational workshops, conferences, and other forums focusing on persons with birth defects, developmental disabilities, and special health care needs.

f. Design and implement training activities that will promote professional development to support data-related activities in birth defects and developmental disabilities.

g. Convene an advisory panel of experts to assist in identifying the knowledge and practices in the areas related to birth defects and developmental disabilities and to provide expert opinions and advice on required research services and education.

h. Disseminate information on prevention of birth defects, developmental disabilities, and health promotion for persons with disabilities.

i. For each of the activities “a. through h.” above, develop and implement an evaluation plan.

2. CDC Activities

a. Provide assistance in the establishment and implementation of Special Project program operations, which include development of a process for solicitation of applications, establishment of application review procedures, participation on review committees, and development of evaluation guidance and processes for making funding decisions.

b. Provide assistance in the development of public health projects in the fields of birth defects, developmental disabilities, and health and disability services.

c. Assist in the evaluation of professional training and leadership in the fields of birth defects, developmental disabilities, and health and disability services.

d. Assist in the evaluation of state, local and national level forums on critical public health issues related to the fields of birth defects, developmental disabilities, and health and disability services.

e. Assist in monitoring of progress for the Special Projects.

f. Assist in the development of a research protocol for Institutional Review Board (IRB) review by all cooperating institutions participating in any proposed research projects.

E. Application Content

Letter of Intent (LOI)

A non-binding LOI is requested for this program. The narrative should be no more than one, double-spaced page, printed on one side, with one inch margins, and unreduced font. It should identify the announcement number, name of the proposed project director and name of the organization.

Your letter of intent will be used to allow CDC to determine the level of interest in the announcement, to plan the review more efficiently, and to ensure that each applicant receives timely and relevant information prior to the application submission date.

Use the information in the Program Requirements, Other Requirements, and Evaluation Criteria sections to develop the application content. The application will be evaluated on the criteria listed, so it is important to follow them in laying out the program plan.

F. Submission and Deadline

Letter of Intent (LOI)

On or before February 28, 2002, submit the LOI to the official noted for program technical assistance identified in the “Where to Obtain Additional Information” of this announcement.

Application

Submit the original and five copies of PHS-398 (OMB Number 0925-0001) (adhere to the instructions on the Errata Instruction Sheet for PHS 398). Forms are available in the application kit and at the following Internet address: www.cdc.gov/od/pgo/forminfo.htm.

On or before March 28, 2002, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications which do not meet the criteria in 1. or 2. above will be returned to the applicant.

G. Evaluation Criteria

The applications will be evaluated individually against the following criteria by an independent review group appointed by CDC.

1. Proposed Program (30 points)

The extent to which the proposal clearly demonstrates the applicants understanding of the issues. The proposal should describe project objectives that fit the activities in the application. The proposal demonstrates that applicant has a broad range of knowledge and expertise in the fields of birth defects, developmental disabilities, and adults and children living with disabilities. The proposal demonstrates that the applicant's membership is comprised of professionals practicing in a variety of specialties that contribute to the research, policy development, and training in the areas of birth defects, and developmental disabilities, and adults and children living with disabilities.

2. Technical Merit (30 points)

The extent to which the proposal demonstrates technical merit in the approaches to be used in accomplishing the activities.

3. Proposal Adequacy (30 points)

The extent to which the application demonstrates adequacy of the plan to address the activities and an appropriate time line to accomplish them. The degree to which the applicant has met the CDC Policy requirements regarding the inclusion of women, ethnic, and racial groups in the proposed research. This includes: (1) The proposed plan for the inclusion of both sexes and racial and ethnic minority populations appropriate representation; (2) the proposed justification when representation is limited or absent; (3) a statement as to whether the design of the study is adequate to measure differences when warranted; and (4) a statement as to whether the plans for recruitment and outreach for study participants include the process of establishing partnerships with communities and recognition of mutual benefits.

4. Program Personnel (10 points)

The extent to which the proposal describes qualifications of professional and support staff that are commensurate with necessary levels of expertise to successfully accomplish program activities.

5. Budget (not scored)

The extent to which the proposal demonstrates appropriateness and justification of the requested budget relative to the activities proposed.

6. Human Subjects (not scored)

Procedures adequate for the protection of human subjects must be documented. The application must adequately address the requirements of Title 45 CFR part 46 for the protection of human subjects. Although this is not scored, an application can be disapproved if the research risks are sufficiently serious and protection against risks are so inadequate as to make the entire application unacceptable.

H. Other Requirements

Technical Reporting Requirements

Provide CDC with original plus two copies of

1. Semi-annual progress reports should include:

a. A brief project description

b. A comparison of the actual accomplishments to the goals and objectives established for the period

c. In the case that established goals and objectives may not be accomplished or are delayed, documentation of both the reason for the deviation and the anticipated corrective action or a request for deletion of the activity from the project

d. Other pertinent information, including preliminary findings from the analysis of available data

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I of the announcement in the application kit.

AR-1 Human Subjects Requirements

AR-2 Requirements for Inclusion of Women and Racial and Ethnic Minorities in Research

AR-10 Smoke-Free Workplace Requirements

AR-11 Healthy People 2010

AR-12 Lobbying Restrictions

AR-22 Research Integrity

I. Authority and Catalog of Federal Domestic Assistance Number

This program is authorized under section 301(a), 311, and 317 of the Public Health Service Act, [42 U.S.C. sections 241, 243, and 247b4], as amended. The Catalog of Federal Domestic Assistance number is 93.184.

J. Where To Obtain Additional Information

This and other CDC announcements can be found on the CDC home page Internet address— http://www.cdc.gov. Click on “Funding” then “Grants and Cooperative Agreements.”

To receive additional written information and to request an application kit, call 1-888-GRANTS4 (1-888-472-6874). You will be asked to leave your name and address and will be instructed to identify the Program Announcement number of interest.

If you have questions after reviewing the contents of all the documents, business management technical assistance may be obtained from: Sheryl Heard, Grants Management Specialist, Assistance and Acquisition Branch B, Procurement and Grants Office, Centers for Disease Control and Prevention.

[Announcement 02026]

2920 Brandywine Road, Room 3000, Atlanta, GA 30341-4146. Telephone number: 770-488-2723. E-mail: slh3@cdc.gov.

For program technical assistance, contact: Tom Horne, National Center on Birth Defects and Developmental Disabilities. 4770 Buford Highway, Mail Stop F-15 Atlanta, Georgia 30341. Telephone number: 770-488-7364. E-mail: tjh1@cdc.gov.

Robert L. Williams,
Chief, Assistance and Acquisition Branch B., Procurement and Grants Office, Centers for Disease Control and Prevention.

[FR Doc. 02-2941 Filed 2-6-02; 8:45 am]

BILLING CODE 4163-18-P